DEPARTMENT OF THE INTERIOR

U.S. Geological Survey

[GX22DK40GUK0100; OMB Control Number 1028-0097]

Agency Information Collection Activities; Water Resources Research Act Program—State Water Resources Research Institute Annual Base Grant, National Competitive Grants, and Reporting

AGENCY: U.S. Geological Survey, Interior.

ACTION: Notice of information collection; request for comment.

SUMMARY: In accordance with the Paperwork Reduction Act (PRA), the U.S. Geological Survey (USGS) is proposing to renew an information collection.

DATES: Interested persons are invited to submit comments on or before September 12, 2022.

ADDRESSES: Send your comments on this information collection request (ICR) by mail to U.S. Geological Survey, Information Collections Officer, 12201 Sunrise Valley Drive, MS 159, Reston, VA 20192; or by email to gs-info_collections@usgs.gov. Please reference OMB Control Number 1028-0097 in the subject line of your comments.

FOR FURTHER INFORMATION CONTACT: To request additional information about this ICR, contact the Water Resources Research Act Program Manager by email at gs-w_opp_wrra_team@usgs.gov or by telephone at 502-413-7699. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS Water Resources Research Act (WRRA) program issues an annual announcement to solicit applications for noncompetitive State Water Resources Research Program annual base grants authorized by section 104(c) and for the national competitive grant program authorized by section 104(g) of the Water Resources Research Act of 1984 (Pub. L. 98-242), as amended [42 U.S.C. 10303(c)].

Annual base grants may support research and information transfer projects as well as administration projects that advance the institutes' overall administration and objectives; these research projects are generally selected in a competitive statewide solicitation, peer review, and selection process designed and conducted by each institute. National competitive grants (104g) focus on water problems and issues of a regional or interstate nature beyond those of concern only to a single state and which relate to specific program priorities identified jointly by the Secretary (of the Interior, as delegated to the USGS) and the institutes.

The State Water Resources Research Institutes were established under Section 104(a) of the Act [42 U.S.C. 10303(a)]. There are 54 Water Resources Research Institutes, one in each state, the District of Columbia, Puerto Rico, the U.S. Virgin Islands, and Guam. The Institutes cooperate with the USGS in establishing total programmatic direction, reporting on the activities of the institutes and associated researchers, as well as coordinating and facilitating regional research and information and technology transfer.

Title of Collection: Water Resources Research Act Program—State Water Resources Research Institute Annual Base Grant, National Competitive Grants, and Reporting.

OMB Control Number: 1028-0097.

Form Number: None.

Type of Review: Extension of a currently approved collection.

Respondents/Affected Public: Universities.

Total Estimated Number of Annual Respondents: 54.

Total Estimated Number of Annual Responses: 54.

Estimated Completion Time per Response: 80 hours.

Total Estimated Number of Annual Burden Hours: 4,320 hours.

Respondent's Obligation: Required to Obtain or Retain a Benefit.

Frequency of Collection: Annually.

Total Estimated Annual Nonhour Burden Cost: None.

An agency may not conduct or sponsor, nor is a person required to respond to, a collection of information unless it displays a currently valid OMB control number.

The authority for this action is the Paperwork Reduction Act of 1995 (44 U.S.C. 3501 et seq).

Tanja Williamson,
WRRA Acting Program Manager, U.S. Geological Survey.

[FR Doc. 2022-14824 Filed 7-11-22; 8:45 am]

BILLING CODE 4338-11-P